DEPARTMENT OF AGRICULTURE

Submission for OMB Review; Comment Request

July 8, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Study to Assess the Effect of Supplemental Nutrition Assistance Program Participation on Food Security in the Post-American Recovery and Reinvestment Act Environment.

OMB Control Number: 0584-New.

Summary of Collection: Section 17 (7 U.S.C. 2026) (a) (1) of the Food and Nutrition Act of 2008 provides general legislative authority for the planned data collection. This section authorizes the Secretary of Agriculture to enter into contracts with private institutions to undertake research that will help to improve the administration and effectiveness of SNAP in delivering nutrition related benefits. More specific legislative authority is found in the ARRA economic stimulus package implemented in April 2009 (Pub. L. No. 111-5, Section 101(c) (1)), which provides administrative funds to the Food and Nutrition Service (FNS) for management and oversight and for managing the integrity and evaluation of the stimulus changes. The implementation of ARRA presents a unique opportunity to measure the impact of increased benefits on food insecurity. Over the past few years, SNAP participation has increased over 26 percent and is now at record high levels with over 20.7 million households across the nation enrolled in the program in January 2011. The prevalence of food insecurity is also at a record high level, at 14.6 percent in 2009, as noted in the latest annual report on household food insecurity. A unique opportunity to measure the impact of increased benefits on food insecurity has been presented by the implementation of the ARRA economic stimulus package of 2009, which temporarily increased the maximum allotments provided to SNAP participants by 13.6 percent, eased eligibility requirements for childless adults without jobs, and provided additional funding to state agencies responsible for administering the program.

Need and Use of the Information: This evaluation of the effect of SNAP participants on food security will provide new information on the extent to which food insecurity declines with SNAP participation in a post-ARRA environment. This will produce important new evidence on the program's impact, will inform policy decisions regarding the size of SNAP allotments for eligible households, and inform related operational decisions regarding the likely impact of allotment changes on the propensity to participate. The purpose of this data is to allow analysis that will support the following study objectives: (1) To determine how, if at all, the prevalence of household food insecurity and amount of food expenditures vary with SNAP participation. (2) To determine how, if at all, the observed results vary by key household characteristics and circumstances. (3) To determine what factors distinguish between food secure and food insecure SNAP households with children.

Description of Respondents: Individuals or household.

Number of Respondents: 15,408.

Frequency of Responses: Reporting: On occasion.

Total Burden Hours: 8,266.

Ruth Brown,
Departmental Information Collection Clearance Officer.

[FR Doc. 2011-17773 Filed 7-13-11; 8:45 am]

BILLING CODE 3410-30-P